DEPARTMENT OF DEFENSE

Office of the Secretary

[Transmittal No. 20-0H]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 20-0H with attached Policy Justification.

Dated: August 11, 2020.
Aaron T. Siegel,
Alternate OSD Federal Register Liaison Officer, Department of Defense.

BILLING CODE 5001-06-P

BILLING CODE 5001-06-C

Transmittal No. 20-0H

REPORT OF ENHANCEMENT OR UPGRADE OF SENSITIVITY OF TECHNOLOGY OR CAPABILITY (SEC. 36(B)(5)(C), AECA)

(i) Prospective Purchaser: Government of Finland

(ii) Sec. 36(b)(1), AECA Transmittal No.: 16-65

Date: December 2, 2016

Implementing Agency: Navy

(iii) Description: On December 2, 2016 Congress was notified, by Congressional certification transmittal number 16-65, of the possible sale, under Section 36(b)(1) of the Arms Export Control Act, to the Government of Finland of ninety (90) Multifunctional Information Distribution System Joint Tactical Radio System (MIDS-JTRS) Variant(s). Also included were follow-on equipment and support for Finland's F/A-18 Mid-Life Upgrade (MLU) program including software test and integration center upgrades, flight testing, spare and repair parts, support and test equipment, transportation, publications and technical documentation, personnel training and training equipment, U.S. Government and contractor technical and logistics support services, and other related elements of logistics support. The estimated cost was $156 million. Major Defense Equipment (MDE) constituted $57 million of this total.

This transmittal notifies inclusion of the following additional non-MDE items: U.S. program management, financial, logistics, engineering, training and transportation support; and the Common Unique Planning Component (CUPC)/Common Weapons Planning Environment (CWPE) software. The addition of these items will result in a net increase in non-MDE cost of $60 million, resulting in a revised non-MDE cost of $159 million. The total estimated case value will increase to $216 million.

(iv) Significance: The proposed articles and services will support Finland's ability to maintain its F-18 weapons aircraft.

(v) Justification: This proposed sale will support the foreign policy and national security of the United States by improving the security of a trusted partner which is an important force for political stability and economic progress in Europe. It is vital to the U.S. national interest to assist Finland in developing and maintaining a strong and ready self-defense capability.

(vi) Date Report Delivered to Congress: July 6, 2020

[FR Doc. 2020-18475 Filed 8-21-20; 8:45 am]

BILLING CODE 5001-06-P